DEPARTMENT OF AGRICULTURE

Forest Service

Glenn/Colusa County Resource Advisory Committee

AGENCY: Forest Service, USDA.

ACTION: Notice of meeting.

SUMMARY: The Glenn/Colusa County Resource Advisory Committee (RAC) will hold a meeting.

DATES: The meeting will be held on August 26, 2002, and will begin at 1:30 p.m. until approximately 4:30 p.m.

ADDRESSES: The meeting will be held at the Mendocino National Forest Supervisor's Office, 825 N. Humboldt Ave., Willows, CA.

FOR FURTHER INFORMATION CONTACT: Bobbin Gaddini, Committee Coordinator, USDA, Mendocino National Forest, Grindstone Ranger District, P.O. Box 164, Elk Creek, CA 95939. (530) 968-5329; e-mail ggaddini@fs.fed.us.

SUPPLEMENTARY INFORMATION: Agenda items to be covered include: (1) Approve the Minutes from Last Meeting, (2) Proposed By-Laws—Action, (3) Draft Selection Criteria/Operating Guidelines—Action, (4) Willows Scramblers Presentation/Possible Action, (5) Update on RAC Projects, (6) Title III Projects for Review for Colusa, (7) Status of Absent Members & Replacement Members, (8) Public Comment, (9) Next Agenda. The meeting is open to the public. Public input opportunity will be provided and individuals will have the opportunity to address the Committee at that time.

Dated: August 5, 2002.
James Fenwood,
Designated Federal Officer.

[FR Doc. 02-20160 Filed 8-8-02; 8:45 am]

BILLING CODE 3410-11-M